DEPARTMENT OF COMMERCE

International Trade Administration

[C-122-815]

Pure and Alloy Magnesium from Canada: Correction of Notice of Initiation and Partial Rescission of Countervailing Duty Administrative Review

AGENCY: Import Administration, International Trade Administration, Department of Commerce.

ACTION: Correction of Notice of Initiation and Partial Rescission of Countervailing Duty Administrative Review.

EFFECTIVE DATE: December 3, 2002.

FOR FURTHER INFORMATION CONTACT: Melanie Brown, AD/CVD Enforcement, Group I, Office 1, Import Administration, U.S. Department of Commerce, 14th Street and Constitution Avenue, NW., Washington, DC 20230; telephone: (202) 482-4987.

Correction of Notice of Initiation

On September 25, 2000, the Department of Commerce published in the Federal Register (67 FR 60210) the notice of initiation of the countervailing duty administrative review of pure and alloy magnesium from Canada. The notice of initiation incorrectly stated the period of review (“ POR”) as January 1, 2001 to December 31, 2002. The correct POR is January 1, 2001 to December 31, 2001.

Partial Rescission of Review

This initiation was based on a request made on August 28, 2002, by the petitioner, U.S. Magnesium, LLC., with respect to the imports of pure and alloy magnesium produced by Norsk Hydro Canada Inc. and Magnola Metallurgy (“Magnola”). Magnola is currently a party in a new shipper review (“NSR”) covering the same POR and the same subject merchandise. (See Pure and Alloy Magnesium from Canada: Notice of Initiation of New Shipper Countervailing Duty Review, 67 FR 15767, (April 3, 2002)). Therefore, in accordance with 19 CFR 351.213(d) we are rescinding this administrative review with respect to Magnola.

This notice is published in accordance with section 751 of the Act and 19 CFR 351.213(d)(4).

Dated: November 24, 2002.
Susan Kuhbach,
Acting Deputy Assistant, Secretary for Import Administration, Group 1.

[FR Doc. 02-30624 Filed 12-2-02; 8:45 am]

BILLING CODE 3510-DS-P